GENERAL SERVICES ADMINISTRATION

[Notice-MRB-2023-04; Docket No. GAPFAC-2022-0001; Sequence No. 3]

GSA Acquisition Policy Federal Advisory Committee; Notification of Upcoming Web-Based Public Subcommittee Meetings—Update

AGENCY: Office of Government-wide Policy (OGP), General Services Administration (GSA).

ACTION: Meeting notice.

SUMMARY: Notice of these Web-based subcommittee meetings is being provided in accordance with GSA Policy. This notice provides the updated schedule for a series of Web-based meetings for three subcommittees of the GSA Acquisition Policy Federal Advisory Committee (GAP FAC): the Acquisition Workforce Subcommittee, the Industry Partnerships Subcommittee, and the Policy and Practice Subcommittee. It is GSA policy that subcommittee meetings are open for the public to observe. Information on attending and providing written public comment is under the SUPPLEMENTARY INFORMATION section.

DATES: The three Subcommittees will hold recurring Web-based meetings 3:00 p.m. to 5:00 p.m., Eastern Standard Time (EST) on the following dates:

Acquisition workforce subcommittee | Industry partnerships subcommittee | Policy and practice subcommittee
8/1/23 | 8/2/23 | 8/3/23
8/29/23 | 8/30/23 | 8/31/23
9/26/23 | 9/27/23 | 9/28/23
10/24/23 | 10/25/23 | 10/26/23
12/12/23 | 12/13/23 | 12/14/23

ADDRESSES: The meetings will be accessible via webcast. Registrants will receive the webcast information before the meeting.

FOR FURTHER INFORMATION CONTACT: Boris Arratia, Designated Federal Officer, OGP, 703-795-0816, or email: boris.arratia@gsa.gov; or Stephanie Hardison, OGP, 202-258-6823, or email: stephanie.hardison@gsa.gov. Additional information about the subcommittees and the Committee, including meeting materials and agendas, will be available on-line at https://gsa.gov/policy-regulations/policy/acquisition-policy/gsa-acquisition-policy-federal-advisory-committee.

SUPPLEMENTARY INFORMATION: The previous notice can be found here: https://www.federalregister.gov/documents/2023/02/21/2023-03554/gsa-acquisition-policy-federal-advisory-committee-notification-of-upcoming-web-based-public.

Meeting Registration

The subcommittee meetings are open to the public and will be accessible by webcast. All public attendees will need to register to obtain the meeting webcast information. Registration information is located on the GAP FAC website: https://www.gsa.gov/policy-regulations/policy/acquisition-policy/gsa-acquisition-policy-federal-advisory-committee. All registrants will be asked to provide their name, affiliation, and email address. After registration, individuals will receive webcast access information via email.

Public Comments

Written public comments are being accepted via email at gapfac@gsa.gov. To submit a written public comment, please email at gapfac.gsa.gov and include your name, organization name (if applicable), and include “GAPFAC-2022-0001” on any attached document(s) (if applicable).

Jeffrey A. Koses,
Senior Procurement Executive, Office of Acquisition Policy, Office of Government-wide Policy.

[FR Doc. 2023-16369 Filed 8-1-23; 8:45 am]

BILLING CODE 6820-RV-P